DEPARTMENT OF THE INTERIOR

Geological Survey

[GX24NN00TH3L700, OMB Control Number 1028-New]

Agency Information Collection Activities; Submission to the Office of Management and Budget; Central Flyway Online Goose Harvest Assessment

AGENCY: U.S. Geological Survey, Department of the Interior.

ACTION: Notice of information collection; request for comment.

SUMMARY: In accordance with the Paperwork Reduction Act (PRA) of 1995, the U.S. Geological Survey (USGS) is proposing a new information collection.

DATES: Interested persons are invited to submit comments on or before July 29, 2024.

ADDRESSES: Written comments and recommendations for the proposed information collection should be sent within 30 days of publication of this notice to www.reginfo.gov/public/do/PRAMain. Find this particular information collection by selecting “Currently under Review—Open for Public Comments” or by using the search function. Please provide a copy of your comments by mail to USGS, Information Collections Clearance Officer, 12201 Sunrise Valley Drive, MS 159, Reston, VA 20192 or by email to gs-info_collections@usgs.gov. Please reference OMB Control Number 1028-NEW in the subject line of your comments.

FOR FURTHER INFORMATION CONTACT: To request additional information about this Information Collection Request (ICR), contact Jay VonBank by email at jvonbank@usgs.gov, or by telephone at (701) 368-0177. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 25, 2023 (88 FR 73354). We received one comment which did not address the information collection requirements. No response to that comment is required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: In an effort to address current known biases in goose harvest data collection, our research project aims to test the efficacy of a new online data submission platform; streamline multiple concurrent surveys into one centralized survey; and reduce the cost and time of compiling and analyzing survey data for Federal and state agencies who use these data to inform management decisions. We are proposing the development and testing of an online, mobile-friendly, self-submission data platform for hunters to enumerate and speciate their own goose harvest. The goals are to develop and evaluate the platform; compare resulting data streams with current paper and parts collection surveys to evaluate accuracy and bias; and understand hunter satisfaction with the system.

Title of Collection: Central Flyway Online Goose Harvest Assessment.

OMB Control Number: 1028-New.

Form Number: None.

Type of Review: New.

Respondents/Affected Public: General Public.

Total Estimated Number of Annual Respondents: 3,552.

Total Estimated Number of Annual Responses: 14,208 (4 per respondent).

Estimated Completion Time per Response: 2 minutes.

Total Estimated Number of Annual Burden Hours: 474 hours.

Respondent's Obligation: Voluntary.

Frequency of Collection: Once annually.

Total Estimated Annual Nonhour Burden Cost: None.

An agency may not conduct or sponsor, and a person is not required to respond to, a collection of information unless it displays a currently valid OMB control number.

The authority for this action is the PRA (44 U.S.C. 3501 et seq.).

Robert A. Gleason,
Northern Prairie Wildlife Research Center, Center Director, Midcontinent Region, USGS.

[FR Doc. 2024-14157 Filed 6-26-24; 8:45 am]

BILLING CODE 4338-11-P